DEPARTMENT OF TRANSPORTATION

Federal Aviation Administration

Advisory Circular (AC) 25.981-1B, Fuel Tank Ignition Source Prevention Guidelines; and AC 25.981-2, Fuel Tank Flammability Minimization

AGENCY: Federal Aviation Administration, DOT.

ACTION: Notice of issuance of advisory circulars.

SUMMARY: The FAA announces the issuance of Advisory Circular (AC) 25.981-1B, “Fuel Tank Ignition Source Prevention Guidelines,” and AC 25.981-2, “Fuel Tank Flammability Minimization.” These advisory circulars provide information and guidance for compliance with recently issued amendments concerning a review of transport airplane fuel tank system designs, the development and implementation of maintenance and inspection to assure the safety of the fuel tank system, and the minimization of the formation or mitigation of hazards from flammable fuel air mixtures within fuel tanks.

DATES: The subject advisory circulars were issued in the FAA Transport Airplane Directorate in Renton, Washington, on April 18, 2001.

HOW TO OBTAIN COPIES: Copies of both AC's can be found and downloaded from the Internet at http://www.faa.gov/avr/air/acs/achome.htm. Paper copies of the AC's will be available in approximately 6-8 weeks from U.S. Department of Transportation, Subsequent Distribution Office, SVC-121.23, Ardmore East Business Center, 3341, Q 75th Avenue, Landover, MD 20785.

FOR FURTHER INFORMATION CONTACT: Pat Siegrist, FAA Standardization Branch, ANM-113, Transport Airplane Directorate, 1601 Lind Avenue SW., Renton, Washington 98055-4056; telephone (425) 227-2126.

Issued in Renton, Washington, on April 26, 2001.
Donald L. Riggin,
Acting Manager, Transport Airplane Directorate, Aircraft Certification Service.

[FR Doc. 01-11725 Filed 5-8-01; 8:45 am]

BILLING CODE 4910-13-M